DEPARTMENT OF HEALTH AND HUMAN SERVICES

National Institutes of Health

Center for Scientific Review; Amended Notice of Meeting

Notice is hereby given of a change in the meeting of the Center for Scientific Review Special Emphasis Panel ZRG1 MDCN-C (58), October 18, 2013, 08:00 a.m. to October 18, 2013, 05:00 p.m., Pier 5 Hotel, 711 Eastern Avenue, Baltimore, MD, 21202 which was published in the Federal Register on September 25, 2013, 78 FR 186 Pgs. 59040-59041.

The meeting will be held at the Crowne Plaza Tyson Corner, 1960 Chain Bridge Rd., McLean, VA 22102. The meeting will start on November 19, 2013 at 8:00 a.m. and end November 19, 2013 at 4:00 p.m. The meeting is closed to the public.

Dated: November 1, 2013.
Anna Snouffer,
Deputy Director, Office of Federal Advisory Committee Policy.

[FR Doc. 2013-26625 Filed 11-6-13; 8:45 am]

BILLING CODE 4140-01-P